ENVIRONMENTAL PROTECTION AGENCY

40 CFR Part 261

[SW-FRL-6570-2]

Hazardous Waste Management System; Identification and Listing of Hazardous Waste; Final Exclusion

AGENCY: Environmental Protection Agency (EPA).

ACTION: Final rule.

SUMMARY: The EPA is granting a petition submitted by Rhodia, Inc. (Rhodia), to exclude from hazardous waste control (or delist) a certain solid waste. This action responds to the petition originally submitted by Rhodia to delist the Filter Cake Sludge on a “generator specific” basis from the lists of hazardous waste.

After careful analysis, the EPA has concluded that the petitioned waste is not hazardous waste when disposed of in subtitle D landfills/surface impoundments. This exclusion applies to Filter Cake Sludge generated at Rhodia's Houston, Texas facility. Accordingly, this final rule excludes the petitioned waste from the requirements of hazardous waste regulations under the Resource Conservation and Recovery Act (RCRA) when disposed of in subtitle D landfills/surface impoundments but imposes testing conditions to ensure that the future-generated wastes remain qualified for delisting.

EFFECTIVE DATE: April 10, 2000.

ADDRESSES: The public docket for this final rule is located at the U.S. Environmental Protection Agency Region 6, 1445 Ross Avenue, Dallas, Texas 75202, and is available for viewing in the EPA Freedom of Information Act review room on the 7th floor from 9:00 a.m. to 4:00 p.m., Monday through Friday, excluding Federal holidays. Call (214) 665-6444 for appointments. The reference number for this docket is “F-99-TXDEL-RHODIA.” The public may copy material from any regulatory docket at no cost for the first 100 pages and at a cost of $0.15 per page for additional copies.

FOR FURTHER INFORMATION CONTACT: For general information, contact Bill Gallagher, at (214) 665-6775. For technical information concerning this document, contact James Harris, U.S. Environmental Protection Agency, 1445 Ross Avenue, Dallas, Texas, (214) 665-8302.

SUPPLEMENTARY INFORMATION: The information in this section is organized as follows:

I. Overview Information

A. What action is EPA finalizing?

B. Why is EPA approving this delisting?

C. What are the limits of this exclusion?

D. How will Rhodia manage the waste if it is delisted?

E. When is the final delisting exclusion effective?

F. How does this action affect states?

II. Background

A. What is a delisting petition?

B. What regulations allow facilities to delist a waste?

C. What information must the generator supply?

III. EPA's Evaluation of the Waste Data

A. What wastes did Rhodia petition EPA to delist?

B. How much wastes did Rhodia propose to delist?

C. How did Rhodia sample and analyze the waste data in this petition?

IV. Public Comments Received on the Proposed Exclusion

Were Public Comments Submitted on the Proposed Rule?

V. Regulatory Impact

VI. Regulatory Flexibility Act

VII. Paperwork Reduction Act

VIII. Unfunded Mandates Reform Act

IX. Congressional Review Act

X. Executive Order 12875

XI. Executive Order 13045

XII. Executive Order 13084

XIII. National Technology Transfer and Advancements Act

XIV. Executive Order 13132 Federalism

I. Overview Information

A. What Action Is EPA Finalizing?

The EPA is finalizing the decision to grant Rhodia's petition to have their Filter Cake Sludge excluded, or delisted, from the definition of a hazardous waste.

After evaluating the petition, EPA proposed, on December 10, 1999 to exclude Rhodia's waste from the lists of hazardous wastes under §§ 261.31 and 261.32 (see 64 FR 8278).

B. Why Is EPA Approving This Delisting?

Rhodia petitioned to exclude the Filter Cake Sludge treatment residues because it does not believe that the petitioned waste meets the criteria for which it was listed.

Rhodia also believes that the waste does not contain any other constituents that would render it hazardous. Review of this petition included consideration of the original listing criteria, as well as the additional listing criteria and the additional factors required by the Hazardous and Solid Waste Amendments (HSWA) of 1984. See, section 222 of HSWA, 42 U.S.C. 6921(f), and 40 CFR 260.22(d)(2)-(4).

For reasons stated in both the proposal and this document, EPA believes that Rhodia' Filter Cake Sludge should be excluded from hazardous waste control. The EPA therefore is granting a final exclusion to Rhodia, located in Houston, Texas for its Filter Cake Sludge.

C. What Are the Limits of This Exclusion?

This exclusion applies to the waste described in the petition only if the requirements described in Table 1 of part 261 and the conditions contained herein are satisfied. The maximum annual volume of the Filter Cake Sludge is 1,200 cubic yards.

D. How Will Rhodia Manage the Waste if It Is Delisted?

Rhodia currently disposes of the petitioned waste (filter-cake Sludge) generated at its facility in off-site, RCRA permitted Treatment Storage or Disposal facilities which are not owned/operated by Rhodia. If the waste is delisted it will be disposed of in a subtitle “D” landfill.

E. When Is The Final Delisting Exclusion Effective?

This rule is effective April 10, 2000. The Hazardous and Solid Waste Amendments of 1984 amended section 3010 of RCRA to allow rules to become effective in less than six months when the regulated community does not need the six-month period to come into compliance. That is the case here because this rule reduces, rather than increases, the existing requirements for persons generating hazardous wastes. These reasons also provide a basis for making this rule effective immediately, upon publication, under the Administrative Procedure Act, pursuant to 5 U.S.C. 553(d).

F. How Does This Action Affect States?

Because EPA is issuing today's exclusion under the Federal RCRA delisting program, only States subject to Federal RCRA delisting provisions would be affected. This would exclude two categories of States: States having a dual system that includes Federal RCRA requirements and their own requirements, and States who have received our authorization to make their own delisting decisions.

We allow states to impose their own non-RCRA regulatory requirements that are more stringent than EPA's, under section 3009 of RCRA. These more stringent requirements may include a provision that prohibits a Federally issued exclusion from taking effect in the State. Because a dual system (that is, both Federal (RCRA) and State (non-RCRA) programs) may regulate a petitioner's waste, we urge petitioners to contact the State regulatory authority to establish the status of their wastes under the State law.

The EPA has also authorized some States (for example, Louisiana, Georgia, Illinois) to administer a delisting program in place of the Federal program, that is, to make State delisting decisions. Therefore, this exclusion does not apply in those authorized States. If Rhodia transports the petitioned waste to or manages the waste in any State with delisting authorization, Rhodia must obtain delisting authorization from that State before they can manage the waste as nonhazardous in the State.

II. Background

A. What Is a Delisting Petition?

A delisting petition is a request from a generator to EPA or another agency with jurisdiction to exclude from the list of hazardous wastes, wastes the generator does not consider hazardous under RCRA.

B. What Regulations Allow Facilities To Delist a Waste?

Under 40 CFR 260.20 and 260.22, facilities may petition the EPA to remove their wastes from hazardous waste control by excluding them from the lists of hazardous wastes contained in §§ 261.31 and 261.32. Specifically, section 260.20 allows any person to petition the Administrator to modify or revoke any provision of parts 260 through 265 and 268 of Title 40 of the Code of Federal Regulations (CFR). Section 260.22 provides generators the opportunity to petition the Administrator to exclude a waste on a “generator-specific” basis from the hazardous waste lists.

C. What Information Must the Generator Supply?

Petitioners must provide sufficient information to EPA to allow the EPA to determine that the waste to be excluded does not meet any of the criteria under which the waste was listed as a hazardous waste. In addition, the Administrator must determine, where he/she has a reasonable basis to believe that factors (including additional constituents), other than those for which the waste was listed, could cause the waste to be a hazardous waste, that such factors do not warrant retaining the waste as a hazardous waste.

III. EPA's Evaluation of the Waste Data

A. What Waste Did Rhodia Petition EPA To Delist?

On November 4, 1997, Rhodia petitioned the EPA to exclude from the lists of hazardous waste contained in §§ 261.31 and 261.32, a waste by-product (Filter-Cake Sludge) which falls under the classification of listed waste because of the “derived from” rule in RCRA 40 CFR 260.3(c)(2)(i). Specifically, in its petition, Rhodia, Incorporated, located in Houston, Texas, requested that EPA grant an exclusion for 1,200 cubic yards per year of filter-cake sludge resulting from its treatment process which treats listed hazardous waste. The resulting waste is also listed, in accordance with § 261.3(c)(2)(i) (i.e., the “derived from” rule).

The waste codes of the constituents of concern are EPA Hazardous Waste Numbers D001-D043, F001-F012, F019, F024, F025, F032, F034, F037-F039, K002-004, K006-K011, K013-K052, K060-K062, K064-K066, K069, K071, K073, K083-K088, K090-K091, K093-K118, K123-K126, K131-K133, K136, K141-K145, K147-K151, K156-K161, P001-P024, P026-P031, P033-P034, P036-P051, P054, P056-P060, P062-P078, P081-P082, P084-P085, P087-P089, P092-P116, P118-P123, P127-P128, P185, P188-P192, P194, P196-P199, P201-P205, U001-U012, U014-U039, U041-U053, U055-U064, U066-U099, U101-U103, U105-U138, U140-U174, U176-U194, U196-U197, U200-U211, U213-U223, U225-U228, U234-U240, U243-U244, U246-U249, U271, U277-U280, U328, U353, U359, U364-U367, U372-U373, U375-U379, U381-U396, U400-U404, U407, U409-U411.

B. How Much Waste Did Rhodia Propose To Delist?

Specifically, in its petition, Rhodia requested that EPA grant a standard exclusion for 1,200 cubic yards of Filter Cake Sludge generated per calender year.

C. How Did Rhodia Sample and Analyze the Waste Data in This Petition?

In support of its petition, which included the sampling and analysis plan, Rhodia analyzed the samples for the complete list of constituents included in 40 CFR part 264, appendix IX and the additional parameters for waste common to the petrochemical, oil and gas industries. The analyses was performed using EPA-approved methods. The analytical parameters and methods are provided in Table I.

Table I.—Analytical Parameters and Methods
Parameter | Matrix | Method
GC/MS BNA, App IX List | Solid | SW846 Method 8270.
GC/MS VOA, App IX List | Solid | SW846 Method 8240.
Metals—App IX List | Solid | SW846 Methods 6010/7000 Series.
Herbicides—App IX List | Solid | SW846 Method 8150.
Pesticide/PCB, App IX List | Solid | SW846 Method 8080.
Organophosporus Pesticides, App IX List | Solid | SW846 Method 8140.
Sulfide | Solid | EPA 376.1.
Cyanide, Total | Solid | SW846, Method 9010.
Dioxin/Furan—App IX List | Solid | SW846 Method 8280.
TCLP—40 CFR 261.24 List, and Nickel | Solid | SW846 Method 1311.
Neutral Leach Cyanide | Solid | SW846 Method 1311 (Modified).
Oil & Grease | Solid | EPA 413.1.
Reactive Cyanide | Solid | SW 846 Chapter 7.3.3.2.
Reactive Sulfide | Solid | SW846 Chapter 7.3.4.2.
Flash Point Closed Cup | Solid | SW846 Method 1010.
pH | Solid | SW846 Method 9045.
Note: Rhodia performed TCLP analyses for specific constituents detected in the total analyses for a given sample.

IV. Public Comments Received on the Proposed Exclusion

Were Public Comments Submitted on the Proposed Rule?

No public comments were received.

V. Regulatory Impact

Under Executive Order 12866, EPA must conduct an “assessment of the potential costs and benefits” for all “significant” regulatory actions.

The proposal to grant an exclusion is not significant, since its effect, if promulgated, would be to reduce the overall costs and economic impact of EPA's hazardous waste management regulations. This reduction would be achieved by excluding waste generated at a specific facility from EPA's lists of hazardous wastes, thus enabling a facility to manage its waste as nonhazardous.

Because there is no additional impact from today's proposed rule, this proposal would not be a significant regulation, and no cost/benefit assessment is required. The Office of Management and Budget (OMB) has also exempted this rule from the requirement for OMB review under section (6) of Executive Order 12866.

VI. Regulatory Flexibility Act

Under the Regulatory Flexibility Act, 5 U.S.C. 601-612, whenever an agency is required to publish a general notice of rulemaking for any proposed or final rule, it must prepare and make available for public comment a regulatory flexibility analysis which describes the impact of the rule on small entities (that is, small businesses, small organizations, and small governmental jurisdictions). No regulatory flexibility analysis is required, however, if the Administrator or delegated representative certifies that the rule will not have any impact on a small entities.

This rule, if promulgated, will not have an adverse economic impact on small entities since its effect would be to reduce the overall costs of EPA's hazardous waste regulations and would be limited to one facility. Accordingly, I hereby certify that this proposed regulation, if promulgated, will not have a significant economic impact on a substantial number of small entities. This regulation, therefore, does not require a regulatory flexibility analysis.

VII. Paperwork Reduction Act

Information collection and recordkeeping requirements associated with this proposed rule have been approved by the Office of Management and Budget (OMB) under the provisions of the Paperwork Reduction Act of 1980 (Pub. L. 96-511, 44 U.S.C. 3501 et seq.) and have been assigned OMB Control Number 2050-0053.

VIII. Unfunded Mandates Reform Act

Under section 202 of the Unfunded Mandates Reform Act of 1995 (UMRA), Public Law 104-4, which was signed into law on March 22, 1995, EPA generally must prepare a written statement for rules with Federal mandates that may result in estimated costs to State, local, and tribal governments in the aggregate, or to the private sector, of $100 million or more in any one year.

When such a statement is required for EPA rules, under section 205 of the UMRA EPA must identify and consider alternatives, including the least costly, most cost-effective, or least burdensome alternative that achieves the objectives of the rule. The EPA must select that alternative, unless the Administrator explains in the final rule why it was not selected or it is inconsistent with law.

Before EPA establishes regulatory requirements that may significantly or uniquely affect small governments, including tribal governments, it must develop under section 203 of the UMRA a small government agency plan. The plan must provide for notifying potentially affected small governments, giving them meaningful and timely input in the development of EPA regulatory proposals with significant Federal intergovernmental mandates, and informing, educating, and advising them on compliance with the regulatory requirements.

The UMRA generally defines a Federal mandate for regulatory purposes as one that imposes an enforceable duty upon state, local, or tribal governments or the private sector.

The EPA finds that today's delisting decision is deregulatory in nature and does not impose any enforceable duty on any State, local, or tribal governments or the private sector. In addition, the proposed delisting decision does not establish any regulatory requirements for small governments and so does not require a small government agency plan under UMRA section 203.

IX. Congressional Review Act

The Congressional Review Act, 5 U.S.C. 801 et seq., as added by the Small Business Regulatory Enforcement Fairness Act of 1996, generally provides that before a rule may take effect, the agency promulgating the rule must submit a rule report, which includes a copy of the rule, to each House of Congress and to the Comptroller General of the United States. EPA will submit a report containing this rule and other required information to the U.S. Senate, the U.S. House of Representatives, the Comptroller General of the United States prior to publication of the final rule in the Federal Register. This rule is not a “major rule” as defined by 5 U.S.C. 804(2). This rule will become effective on the date of publication in the Federal Register.

X. Executive Order 12875

Under Executive Order 12875, EPA may not issue a regulation that is not required by statute and that creates a mandate upon a state, local, or tribal government, unless the Federal government provides the funds necessary to pay the direct compliance costs incurred by those governments. If the mandate is unfunded, EPA must provide to the OMB a description of the extent of EPA's prior consultation with representatives of affected state, local, and tribal governments, the nature of their concerns, copies of written communications from the governments, and a statement supporting the need to issue the regulation. In addition, Executive Order 12875 requires EPA to develop an effective process permitting elected officials and other representatives of state, local, and tribal governments “to provide meaningful and timely input in the development of regulatory proposals containing significant unfunded mandates.” Today's rule does not create a mandate on state, local or tribal governments. The rule does not impose any enforceable duties on these entities. Accordingly, the requirements of section 1(a) of Executive Order 12875 do not apply to this rule.

XI. Executive Order 13045

The Executive Order 13045 is entitled “Protection of Children from Environmental Health Risks and Safety Risks” (62 FR 19885, April 23, 1997). This order applies to any rule that EPA determines: (1) Is economically significant as defined under Executive Order 12866, and (2) the environmental health or safety risk addressed by the rule has a disproportionate effect on children. If the regulatory action meets both criteria, the Agency must evaluate the environmental health or safety effects of the planned rule on children, and explain why the planned regulation is preferable to other potentially effective and reasonably feasible alternatives considered by the Agency. This proposed rule is not subject to Executive Order 13045 because this is not an economically significant regulatory action as defined by Executive Order 12866.

XII. Executive Order 13084

Because this action does not involve any requirements that affect Indian Tribes, the requirements of section 3(b) of Executive Order 13084 do not apply.

Under Executive Order 13084, EPA may not issue a regulation that is not required by statute, that significantly affects or uniquely affects that communities of indian tribal governments, and that imposes substantial direct compliance costs on those communities, unless the Federal government provides the funds necessary to pay the direct compliance costs incurred by the tribal governments.

If the mandate is unfunded, EPA must provide to the OMB, in a separately identified section of the preamble to the rule, a description of the extent of EPA's prior consultation with representatives of affected tribal governments, a summary of the nature of their concerns, and a statement supporting the need to issue the regulation.

In addition, Executive Order 13084 requires EPA to develop an effective process permitting elected and other representatives of Indian tribal governments “to meaningful and timely input” in the development of regulatory policies on matters that significantly or uniquely affect their communities of Indian tribal governments. This action does not involve or impose any requirements that affect Indian Tribes. Accordingly, the requirements of section 3(b) of Executive Order 13084 do not apply to this rule.

XIII. National Technology Transfer and Advancement Act

Under section 12(d) if the National Technology Transfer and Advancement Act (NTTAA), the Agency is directed to use voluntary consensus standards in its regulatory activities unless to do so would be inconsistent with applicable law or otherwise impractical. Voluntary consensus standards are technical standards (e.g., materials specifications, test methods, sampling procedures, business practices, etc.) developed or adopted by voluntary consensus standard bodies. Where available and potentially applicable voluntary consensus standards are not used by EPA, the NTTAA requires that Agency to provide Congress, through the OMB, an explanation of the reasons for not using such standards.

This rule does not establish any new technical standards and thus, the Agency has no need to consider the use of voluntary consensus standards in developing this final rule.

XIV. Executive Order 13132 Federalism

Executive Order 13132, entitled “Federalism” (64 FR 43255, August 10, 1999) requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under section 6 of Executive Order 13132, EPA may not issue a regulation that has federalism implications, that impose substantial direct compliance costs, and that is not required by statute, unless the Federal government provides the funds necessary to pay the direct compliance costs incurred by State and local governments, or EPA consults with State and local officials early in the process of developing the proposed regulation. The EPA also may not issue a regulation that has federalism implications and that preempts State law unless the Agency consults with State and local officials early in the process of developing the proposed regulation.

This action does not have federalism implication. It will not have a substantial direct effect on States, on the relationship between the national government and the States, or on the distribution of power and responsibilities among the various levels of government, as specified in Executive Order 13132, because it affects only one State.

List of Subjects 40 CFR Part 261

Environmental protection, Hazardous waste, Recycling, Reporting and recordkeeping requirements.

Authority: Sec. 3001(f) RCRA, 42 U.S.C. 6921(f).

Dated: March 17, 2000.
Carl E. Edlund,
P.E. Director, Multimedia Planning and Permitting Division, Region 6.

For the reasons set out in the preamble, 40 CFR part 261 is proposed to be amended as follows:

PART 261—IDENTIFICATION AND LISTING OF HAZARDOUS WASTE

1. The authority citation for part 261 continues to read as follows:

Authority: 42 U.S.C. 6905, 6912(a), 6921, 6922, 6924(y) and 6938.

2. In Tables 1, 2, and 3 of appendix IX of part 261, add the following waste stream in alphabetical order by facility to read as follows:

Appendix IX to Part 261—Waste Excluded Under §§ 260.20 and 260.22

Table 1.—Waste Excluded From Non-Specific Sources
Facility | Address | Waste description
* * * * * * *
Rhodia | Houston,Texas | Filter-cake Sludge, (at a maximum generation of 1,200 cubic yards per calendar year) generated by Rhodia using the SARU and AWT treatment process to treat the filter-cake sludge (EPA Hazardous Waste Nos. D001-D43, F001-F012, F019, F024, F025, F032, F034, F037-F039) generated at Rhodia.
|  | Rhodia must implement a testing program that meets the following conditions for the exclusion to be valid:
|  | (1) Delisting Levels: All concentrations for the following constituents must not exceed the following levels (mg/l). For the filter-cake constituents must be measured in the waste leachate by the method specified in 40 CFR 261.24.
|  | (A) Filter-cake Sludge
|  | (i) Inorganic Constituents: Antimony-1.15; Arsenic-1.40; Barium-21.00; Beryllium-1.22; Cadmium-0.11; Cobalt-189.00; Copper-90.00; Chromium-0.60; Lead-0.75; Mercury-0.025; Nickel-9.00; Selenium-4.50; Silver-0.14; Thallium-0.20; Vanadium-1.60; Zinc-4.30
|  | (ii) Organic Constituents: Chlorobenzene-Non Detect; Carbon Tetrachloride-Non Detect; Acetone-360; Chloroform-0.9
|  | (2) Waste Holding and Handling: Rhodia must store in accordance with its RCRA permit, or continue to dispose of as hazardous waste all Filter-cake Sludge until the verification testing described in Condition (3)(A), as appropriate, is completed and valid analyses demonstrate that condition (3) is satisfied. If the levels of constituents measured in the samples of the Filter-cake Sludge do not exceed the levels set forth in Condition (1), then the waste is nonhazardous and may be managed and disposed of in accordance with all applicable solid waste regulations.
|  | (3) Verification Testing Requirements: Rhodia must perform sample collection and analyses, including quality control procedures, according to SW-846 methodologies. If EPA judges the process to be effective under the operating conditions used during the initial verification testing, Rhodia may replace the testing required in Condition (3)(A) with the testing required in Condition (3)(B). Rhodia must continue to test as specified in Condition (3)(A) until and unless notified by EPA in writing that testing in Condition (3)(A) may be replaced by Condition (3)(B).
|  | (A) Initial Verification Testing: At quarterly intervals for one year after the final exclusion is granted, Rhodia must collect and analyze composites of the filter-cake sludge. From Paragraph 1 TCLP must be run on all waste and any constituents for which total concentrations have been identified. Rhodia must conduct a multiple pH leaching procedure on samples collected during the quarterly intervals. Rhodia must perform the TCLP procedure using distilled water and three different pH extraction fluids to simulate disposal under three conditions. Simulate an acidic landfill environment, basic landfill environment and a landfill environment similar to the pH of the waste. Rhodia must report the operational and analytical test data, including quality control information, obtained during this initial period no later than 90 days after the generation of the waste.
|  | (B) Subsequent Verification Testing: Following termination of the quarterly testing, Rhodia must continue to test a representative composite sample for all constituents listed in Condition (1) on an annual basis (no later than twelve months after the final exclusion).
|  | (4) Changes in Operating Conditions: If Rhodia significantly changes the process which generate(s) the waste(s) and which may or could affect the composition or type waste(s) generated as established under Condition (1) (by illustration, but not limitation, change in equipment or operating conditions of the treatment process), or its NPDES permit is changed, revoked or not reissued, Rhodia must notify the EPA in writing and may no longer handle the waste generated from the new process or no longer discharge as nonhazardous until the waste meet the delisting levels set in Condition (1) and it has received written approval to do so from EPA.
|  | (5) Data Submittals: Rhodia must submit the information described below. If Rhodia fails to submit the required data within the specified time or maintain the required records on-site for the specified time, EPA, at its discretion, will consider this sufficient basis to reopen the exclusion as described in Paragraph 6. Rhodia must:
|  | (A) Submit the data obtained through Paragraph 3 to Mr. William Gallagher, Chief, Region 6 Delisting Program, EPA, 1445 Ross Avenue, Dallas, Texas 75202-2733, Mail Code, (6PD-O) within the time specified.
|  | (B) Compile records of operating conditions and analytical data from Paragraph (3), summarized, and maintained on-site for a minimum of five years.
|  | (C) Furnish these records and data when EPA or the State of Texas request them for inspection.
|  | (D) Send along with all data a signed copy of the following certification statement, to attest to the truth and accuracy of the data submitted:
|  | (i) Under civil and criminal penalty of law for the making or submission of false or fraudulent statements or representations (pursuant to the applicable provisions of the Federal Code, which include, but may not be limited to, 18 U.S.C. 1001 and 42 U.S.C. 6928), I certify that the information contained in or accompanying this document is true, accurate and complete.
|  | (ii) As to the (those) identified section(s) of this document for which I cannot personally verify its (their) truth and accuracy, I certify as the company official having supervisory responsibility for the persons who, acting under my direct instructions, made the verification that this information is true, accurate and complete.
|  | (iii) If any of this information is determined by EPA in its sole discretion to be false, inaccurate or incomplete, and upon conveyance of this fact to the company, I recognize and agree that this exclusion of waste will be void as if it never had effect or to the extent directed by EPA and that the company will be liable for any actions taken in contravention of the company's RCRA and CERCLA obligations premised upon the company's reliance on the void exclusion.
|  | (6) Reopener Language
|  | (A) If, anytime after disposal of the delisted waste, Rhodia possesses or is otherwise made aware of any environmental data (including but not limited to leachate data or groundwater monitoring data) or any other data relevant to the delisted waste indicating that any constituent identified for the delisting verification testing is at level higher than the delisting level allowed by the Regional Administrator or his delegate in granting the petition, then the facility must report the data, in writing, to the Regional Administrator or his delegate within 10 days of first possessing or being made aware of that data.
|  | (B) If the annual testing of the waste does not meet the delisting requirements in Paragraph 1, Rhodia must report the data, in writing, to the Regional Administrator or his delegate within 10 days of first possessing or being made aware of that data.
|  | (C) If Rhodia fails to submit the information described in paragraphs (5), (6)(A) or (6)(B) or if any other information is received from any source, the Regional Administrator or his delegate will make a preliminary determination as to whether the reported information requires Agency action to protect human health or the environment. Further action may include suspending, or revoking the exclusion, or other appropriate response necessary to protect human health and the environment.
|  | (D) If the Regional Administrator or his delegate determines that the reported information does require Agency action, the Regional Administrator or his delegate will notify the facility in writing of the actions the Regional Administrator or his delegate believes are necessary to protect human health and the environment. The notice shall include a statement of the proposed action and a statement providing the facility with an opportunity to present information as to why the proposed Agency action is not necessary. The facility shall have 10 days from the date of the Regional Administrator or his delegate's notice to present such information.
|  | (E) Following the receipt of information from the facility described in paragraph (6)(D) or (if no information is presented under paragraph (6)(D)) the initial receipt of information described in paragraphs (5), (6)(A) or (6)(B), the Regional Administrator or his delegate will issue a final written determination describing the Agency actions that are necessary to protect human health or the environment. Any required action described in the Regional Administrator or his delegate's determination shall become effective immediately, unless the Regional Administrator or his delegate provides otherwise.
|  | (7) Notification Requirements: Rhodia must do following before transporting the delisted waste: Failure to provide this notification will result in a violation of the delisting petition and a possible revocation of the decision.
|  | (A) Provide a one-time written notification to any State Regulatory Agency to which or through which they will transport the delisted waste described above for disposal, 60 days before beginning such activities.
|  | (B) Update the one-time written notification if they ship the delisted waste into a different disposal facility.

Table 2.—Waste Excluded From Specific Sources
Facility | Address | Waste description
* * * * * * *
Rhodia | Houston, Texas | Filter-cake Sludge, (at a maximum generation of 1,200 cubic yards per calendar year) generated by Rhodia using the SARU and AWT treatment process to treat the filter-cake sludge (EPA Hazardous Waste Nos. K002-004, K006-K011, K013-K052, K060-K062, K064-K066, K069, K071, K073, K083-K088, K090-K091, K093-K118, K123-K126, K131-K133, K136, K141-K145, K147-K151, K156-K161) generated at Rhodia. Rhodia must implement the testing program described in Table 1. Waste Excluded From Non-Specific Sources for the petition to be valid.
* * * * * * *

Table 3.—Waste Excluded From Commercial Chemical Products, Off-Specification Species, Container Residues, and Soil Residues Thereof
Facility | Address | Waste description
* * * * * * *
Rhodia | Houston, Texas | Filter-cake Sludge, (at a maximum generation of 1,200 cubic yards per calendar year) generated by Rhodia using the SARU and AWT treatment process to treat the filter-cake sludge (EPA Hazardous Waste Nos. P001-P024, P026-P031, P033-P034, P036-P051, P054, P056-P060, P062-P078, P081-P082, P084-P085, P087-P089, P092-P116, P118-P123, P127-P128, P185, P188-P192, P194, P196-P199, P201-P205, U001-U012, U014-U039, U041-U053, U055-U064, U066-U099, U101-U103, U105-U138, U140-U174, U176-U194, U196-U197, U200-U211, U213-U223, U225-U228, U234-U240, U243-U244, U246-U249, U271, U277-U280, U328, U353, U359, U364-U367, U372-U373, U375-U379, U381-U396, U400-U404, U407, U409-U411) generated at Rhodia. Rhodia must implement the testing program described in Table 1. Waste Excluded From Non-Specific Sources for the petition to be valid.
* * * * * * *

[FR Doc. 00-8152 Filed 4-7-00; 8:45 am]

BILLING CODE 6560-50-P